DEPARTMENT OF COMMERCE

National Institute of Standards and Technology

[Docket No.: 001215357-0357-01]

RIN 0693-ZA43

Announcement of Availability of Funds for a Competition—Advanced Technology Program (ATP); Correction

AGENCY: National Institute of Standards and Technology, Commerce.

ACTION: Notice; correction.

SUMMARY: The National Institute of Standards and Technology (NIST) published a document in the Federal Register on January 2, 2001, announcing the availability of fiscal year 2001 Funds for a single Advanced Technology Program (ATP) competition. This document contains a correction to the Funding Availability caption to inform the public about four proposals that were selected for funding during fiscal year 2000 ATP competition but were brought forward to be funded with fiscal year 2001 ATP appropriations.

FOR FURTHER INFORMATION CONTACT: Barbara Lambis, (301) 975-4447. General information on the ATP may be obtained from the following address: National Institute of Standards and Technology; Advanced Technology Program; 100 Bureau Drive, Stop 4701; Administration Building 101, Room A413; Gaithersburg, MD 20899-4701. Additionally, ATP information is available on the Internet at http://www.atp.nist.gov.

Correction

In the Federal Register issue of January 2, 2001, in FR Doc. 00-33429, on page 96, in the third column, first full paragraph, correct the first sentence to read: An estimated $56.5 million in first year funding is available for new awards.

Dated: March 22, 2001.
Karen H. Brown,
Deputy Director.

[FR Doc. 01-7630 Filed 3-27-01; 8:45 am]

BILLING CODE 3510-13-M